DEPARTMENT OF COMMERCE

National Oceanic and Atmospheric Administration

50 CFR Part 635

[Docket No. 100317152-0176-01]

RIN 0648-AY77

Atlantic Highly Migratory Species; 2010 Atlantic Bluefin Tuna Quota Specifications

Correction

In rule document 2010-13207 beginning on page 30732 in the issue of Wednesday, June 2, 2010 make the following correction:

On page 30734, Table 1 is being reprinted to read as set forth below.

[FR Doc. C1-2010-13207 Filed 6-14-10; 8:45 am]

BILLING CODE 1301-00-D